DEPARTMENT OF HEALTH AND HUMAN SERVICES

Centers for Disease Control and Prevention

[30Day-14-0916]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of Core Violence and Injury Prevention Program (Core VIPP)—Revision—(0920-0916, Expiration 1/13/2014)—National Center for Injury Prevention and Control (NCIPC), Centers for Disease Control and Prevention (CDC).

Background and Brief Description

Injuries and their consequences, including unintentional and violence-related injuries, are the leading cause of death for the first four decades of life, regardless of gender, race, or socioeconomic status. More than 179,000 individuals in the United States die each year as a result of unintentional injuries and violence, more than 29 million others suffer non-fatal injuries and over one-third of all emergency department (ED) visits each year are due to injuries.¹ In 2000, injuries and violence ultimately cost the United States $406 billion, with over $80 billion in medical costs and the remainder lost in productivity.¹ Most events that result in injury and/or death from injury could be prevented if evidence-based public health strategies, practices, and policies were used throughout the nation.

¹ Finkelstein EA, Corso PS, Miller TR, Associates. Incidence and Economic Burden of Injuries in the United States. New York: Oxford University Press; 2006.

CDC's National Center for Injury Prevention and Control (NCIPC) is committed to working with their partners to promote actions that reduce injuries, violence, and disabilities by providing leadership in identifying priorities, promoting tools, and monitoring effectiveness of injury and violence prevention, and to promote effective strategies for the prevention of injury and violence and their consequences. One tool NCIPC will use to accomplish this goal is through the use of the Core Violence and Injury Prevention Program (Core VIPP). This program funds state health departments (SHDs) to build their capacity to disseminate, implement, and evaluate evidence-based/best practice programs and policies. This evaluation will consider the implementation and outcomes of Core VIPP during the five-year funding period from August 2011 to July 2016. The Core VIPP will support funded states in building capacity and achieving health impact in their states. The key components of violence and injury prevention (VIP) capacity for Core Base Integration Component (BIC) VIPP are defined as: infrastructure, evaluation, strategies, collaboration, and surveillance.

CDC requests OMB approval to continue to collect program evaluation data for Core VIPP for an additional three-year period. The purpose of the evaluation is to track states' progress toward: (1) Achieving the Performance Measures identified in the Funding Opportunity Announcement (FOA); (2) building and/or sustaining their VIP capacity; and (3) achieving their focus area SMART (Specific, Measurable, Attainable, Reasonable, and Time-bound) objectives. The ability of states to make progress towards their SMART objectives will serve as a measure of Core VIPP's impact on the burden of violence and injury related morbidity and mortality in funded states.

The primary data collections methods will be used in the evaluation include: (1) Interim and annual progress reports, (2) online surveys, and (3) interviews. The progress reports will track states' performance measures and the activities stated in the Core VIPP FOA and monitor states' progress toward their focus area SMART objectives; the online survey will be used to measure grantees' changes in VIP capacity. Interviews will be used to provide more in-depth information about the key facilitators and barriers states have encountered while implementing their violence prevention programs.

The table below details the annualized number of respondents, the average response burden per interview, and the total response burden for the surveys and telephone interviews. Estimates of burden for the survey are based on previous experience with evaluation data collections conducted by the evaluation staff. The State of the States (SOTS) web-based survey assessment will be completed by 20 Core Funded State Health Departments (SHDs) and will take 3 hours to complete. The SOTS Financial Module will also be completed by the 20 BIC funded SHD and will take 1 hour to complete. The supplemental SOTS Survey Questions will be completed by 20 BIC funded SHDs and take 1.5 hours to complete. The BIC telephone interviews will take 1.5 hours and will be completed by the 20 Core funded SHDs.

The Regional Network Leader (RNL) surveys will be completed by the 5 RNL funded SHDs and will take 1 hour to complete a telephone interview. The four Surveillance Quality Improvement (SQI) funded SHDs will complete a one-hour telephone interview. The four Motor Vehicle Child Injury Prevention Policy (MVP) SHDs will complete a telephone interview that will take one hour to complete.

There are no costs to respondents other than their time. The total estimated annual burden hours are 163.

Estimated Annualized Burden Hours
Type of respondents | Form name | Number of respondents | Number of responses per respondent | Average burden per response (in hrs.)
Core VIPP Funded SHD Injury Program director | State of the States Survey (SOTS)—Attachment C | 20 | 1 | 3
Core VIPP Funded SHD Injury Program director | SOTS Financial Module—Attachment E | 20 | 1 | 1
Core VIPP Funded SHD Injury Program management and staff | Supplemental SOTS Survey Questions—Attachment F | 20 | 1 | 1.5
Core VIPP Funded SHD Injury Program management and staff | BIC Telephone Interview—Attachment D | 20 | 1 | 1.5
RNL awardees | RNL Telephone Interview—Attachment G | 5 | 1 | 1
RNL awardees | RNL Network Satisfaction Survey—Attachment H | 5 | 1 | 1
RNL awardees | RNL Needs Assessment Survey—Attachment I | 5 | 1 | 1
SQI awardees | SQI Telephone Interview—Attachment J | 4 | 1 | 1
MVP awardees | MVP Telephone Interview—Attachment K | 4 | 1 | 1

LeRoy Richardson,
Chief, Information Collection Review Office, Office of Scientific Integrity, Office of the Associate Director for Science, Office of the Director, Centers for Disease Control and Prevention.

[FR Doc. 2014-00585 Filed 1-14-14; 8:45 am]

BILLING CODE 4163-18-P